DEPARTMENT OF TRANSPORTATION

Federal Transit Administration

Notice of Intent to Prepare an Environmental Impact Statement for the Federal Way Transit Extension, King County, Washington

AGENCY: Federal Transit Administration (FTA), DOT

ACTION: Notice of intent to prepare an environmental impact statement.

SUMMARY: The Federal Transit Administration (FTA) and the Central Puget Sound Regional Transit Authority (Sound Transit) are planning to prepare an Environmental Impact Statement (EIS) for Sound Transit's proposed Federal Way Transit Extension (FWTE) project. The FWTE project would allow Sound Transit to improve public transit service between the cities of SeaTac and Federal Way in King County, Washington. The FWTE project would also respond to a growing number of transportation and community needs identified in the agency's regional transit system plan, Sound Transit 2 (ST2).

The EIS will be prepared in accordance with the National Environmental Policy Act (NEPA) and Washington's State Environmental Policy Act (SEPA). This Notice of Intent initiates formal scoping for the EIS, invites interested parties to participate in the EIS process, provides information about the purpose and need for the proposed transit project, includes the general set of alternatives being considered for evaluation in the EIS, and identifies potential environmental effects to be considered. This notice invites public comments on the scope of the EIS and announces the public scoping meetings to receive comments. Alternatives being considered for evaluation include a No-Build alternative and various build alternatives to develop light rail in the FWTE corridor. The light rail alternatives were developed through an early scoping process, and an alternatives analysis study. Early scoping notification for the alternatives analysis phase was announced in the Federal Register on October 16, 2012. Results of the early scoping process, the alternatives analysis findings, and other background technical reports are available on the project Web site.

DATES: Written comments on the scope of alternatives and impacts to be considered in the EIS must be received no later than July 15, 2013, and must be sent to Sound Transit as indicated below. Information about the proposed project, the alternatives analysis findings, the Scoping Information Folio, and the EIS process will be available at two public scoping meetings (on June 19 and June 26) and one scoping meeting for tribal and agency representatives (on June 25) at the locations described below. Sound Transit and FTA will accept comments at those meetings.

1. June 19, 2013, 3:00 p.m.-6:00 p.m.

Federal Way Transit Center, 31621 23rd Ave S., Federal Way, WA 98003.

2. June 26, 2013, 5:00 p.m.-7:00 p.m.

Parkside Elementary School, 2104 S. 247th Street, Des Moines, WA 98198.

3. (Agency and Tribal Meeting) June 25, 2013, 1:00 p.m.-3:00 p.m.

Sound Transit, Union Station, Ruth Fisher Boardroom, 401 S. Jackson Street, Seattle, WA 98104.

Invitations to the agency and tribal scoping meeting have been sent to appropriate Federal, tribal, state, and local governmental units. All public meeting locations are accessible to persons with disabilities who may also request materials be prepared and supplied in alternate formats by calling Tralayne Myers, (206) 398-5014 at least 48 hours in advance of the meeting. Persons who are deaf or hard of hearing may call (888) 713-6030 TTY.

Scoping information as well as general information is available at: http://www.soundtransit.org/FWextension.

The scoping period extends to July 15, 2013, or 30 days from the date of this notice, whichever is later. Written scoping comments are requested by July 15, 2013 at the address above, or they can be submitted at the public meetings.

ADDRESSES: Federal Way Transit Extension (c/o Kent Hale, Senior Environmental Planner) Sound Transit, 401 S. Jackson Street, Seattle, WA 98104-2826, or by email to FWTE@soundtransit.org.

FOR FURTHER INFORMATION CONTACT: Steve Saxton, FTA Transportation Program Specialist, phone: (206) 220-4311.

SUPPLEMENTARY INFORMATION: The Proposed Project. Sound Transit is proposing to extend Link light rail transit service from the future Angle Lake Link light rail station at South 200th Street in SeaTac to the Federal Way Transit Center area in Federal Way. The project corridor is approximately 7.6 miles long and parallels State Route 99 (SR 99) and Interstate 5 (I-5). It generally follows a topographic ridge between Puget Sound and the Green River Valley where the city limits of SeaTac, Des Moines, Kent, and Federal Way meet. The project is part of the ST2 Plan of transit investments approved by the voters in 2008. Currently, there is projected funding to construct to Kent/Des Moines in the vicinity of Highline Community College.

Purpose of and Need for the Project. The purpose of the Federal Way Transit Extension is to expand the Sound Transit Link light rail system from SeaTac to the cities of Des Moines, Kent, and Federal Way in King County in order to meet the following objectives:

• Provide a rapid, reliable, accessible, and efficient alternative for travel to and from the corridor and other urban growth and activity centers in the region with sufficient capacity to meet projected demand.

• Expand mobility alternatives to traveling on congested roadways and improve connections to the regional multimodal transportation system with peak and off-peak service.

• Provide the high-capacity transit (HCT) infrastructure to support adopted regional and local land use, transportation, and economic development plans.

• Advance the long-range vision, goals, and objectives for transit service established by the Sound Transit Long-Range Plan for high-quality regional transit service connecting major activity centers in King, Pierce, and Snohomish counties.

• Implement a financially feasible system that seeks to preserve and promote a healthy environment.

The following conditions within the project corridor demonstrate the need for the project:

• North-south transit demand is expected to grow by 30 to 40 percent by 2035 as a result of residential and employment growth in the FWTE corridor and regionally.

• The FWTE corridor population is a highly transit-dependent population with needs for efficient, reliable regional connectivity.

• Congestion on I-5 and on the key corridor arterials leading in and out of the study area will increase and further degrade existing transit performance and reliability.

• There is a lack of reliable and efficient peak and off-peak transit service connecting persons in the FWTE corridor with the region's growth centers.

• Regional and local plans call for HCT in the corridor consistent with PSRC's VISION 2040 and the Regional Transit Long-Range Plan.

• Implementing the project will help meet environmental and sustainability goals of the state and region, including reduced vehicle miles traveled and greenhouse gas emissions.

Potential EIS Alternatives. Sound Transit and FTA are considering multiple alternatives for study in the EIS including a No-Build alternative and several light rail alternatives operating between the cities of SeaTac and Federal Way. Preliminary light rail alternatives were developed through an alternatives analysis process, the early scoping process (October 18 through November 19, 2012), and previous regional and local planning studies. Each light rail alternative includes three general station locations: the vicinity of South 240th Street (near Highline Community College), the vicinity of South 272nd Street (near the Redondo and Star Lake park-and-ride facilities), and the vicinity of South 317th Street (near the Federal Way Transit Center). The alternatives may include other additional station locations identified through the early scoping and alternatives analysis processes. FTA and Sound Transit invite comments on these preliminary alternatives. Public and agency input received during the scoping period will help FTA and Sound Transit develop a range of reasonable alternatives to evaluate in the Draft EIS.

No Build Alternative. NEPA requires consideration of a No-Build Alternative. It reflects the existing transportation system plus the transportation improvements included in PSRC's Transportation Improvement Program.

Potential I-5 Alternatives. The potential I-5 Alternatives consist of light rail guideway along I-5 in two configurations. In one configuration, the guideway would run along the south side of the proposed SR 509 right-of-way to I-5 and then along the west side of the I-5 right-of-way. The guideway would deviate west from the I-5 right-of-way near 317th Street to access the Federal Way Transit Center area. For the other configuration, the alignment would transition from the west side of I-5 to the median of I-5 south of S. 240th Street, briefly transition back to the west side at 272nd Street, then continue in the median to 317th Street before transitioning back to the west side to access the Federal Way Transit Center area Station locations proposed for evaluation with the I-5 Alternative include the vicinity of South 240th Street near Highline Community College; the vicinity of South 272nd Street near the Star Lake park-and-ride facility; and the vicinity of South 317th Street near the Federal Way Transit Center.

Potential SR 99 Alternatives. The potential SR 99 Alternatives would consist of light rail guideway along SR 99 in two configurations. In one configuration the guideway would follow the median for most of the length of SR 99. For the other configuration, the guideway could utilize and transition between the east side, west side, and/or median of SR 99. Station locations proposed for evaluation with the SR 99 Alternatives include the areas near the vicinity of South 240th Street near Highline Community College; the vicinity of South 272nd Street near the Redondo park-and-ride facility; and the vicinity of South 317th Street near the Federal Way Transit Center. The SR 99 alternatives may include other additional station locations in the vicinities of South 216th Street and South 260th Street identified through the early scoping and alternatives analysis processes.

Potential 30th Avenue Alternative. The potential 30th Avenue Alternative would consist of light rail guideway along a portion of 30th Avenue South in the cities of Des Moines and Kent. From Angle Lake Station, the guideway would travel along SR 99 and transition east to 30th Avenue at approximately South 220th Street. The guideway would remain on 30th Avenue South from South 224th Street to approximately South 240th Street. From South 240th Street, the guideway would transition to SR-99 or I-5 and continue towards Federal Way. The station locations would be the same as those described in the previous alternatives.

Scope of Environmental Analysis. The EIS process explores in a public setting the potentially significant effects of implementing the proposed action (and alternatives to the proposed action) on the physical, human, and natural environment. Areas of investigation for this project may include, but might not be limited to, transportation, land use and consistency with applicable plans, land acquisition and displacements, socioeconomic impacts, park and recreation resources, historic and cultural resources, environmental justice, visual and aesthetic qualities, air quality, noise and vibration, energy use, safety and security, and ecosystems, including threatened and endangered species. These effects will be evaluated for both the construction period and the long-term period of operation. Indirect, secondary and cumulative impacts will also be evaluated. The EIS will identify measures to avoid, minimize, or mitigate significant adverse impacts.

Roles of Agencies and the Public. NEPA, and FTA's regulations for implementing NEPA, call for public involvement in the EIS process, including: (1) Invitations to other Federal and non-Federal agencies and Indian tribes that may have an interest in the proposed project to become “cooperating” or “participating agencies,” (2) opportunities for involvement by agencies and the public in helping to define the proposed project's purpose and need, as well as the range of alternatives for consideration in the impact statement, and (3) a plan for coordinating public and agency participation in and comment on the environmental review process.

An invitation to become a cooperating or participating agency will be extended to Federal and non-Federal agencies and Indian tribes that may have an interest in the proposed project. Any agency or tribe interested in the project that does not receive such an invitation should promptly notify the Sound Transit Senior Environmental Planner identified above under ADDRESSES.

A draft Coordination Plan for public and agency involvement is available for review at the project Web site. It identifies the project's coordination approach and structure, details the major milestones for agency and public involvement, and includes an initial list of interested agencies and organizations.

FTA and Sound Transit welcome comments from interested individuals, organizations, tribes and agencies. Comments are invited regarding the preliminary statement of purpose and need; the alternatives to be evaluated in the EIS; and any significant environmental issues related to the alternatives. Suggested reasonable alternatives that meet the project purpose and need will be considered. To assist the public during scoping, Sound Transit has prepared an Environmental Scoping Information Folio describing the project, potential alternatives, potential impact areas to be evaluated, and the preliminary EIS schedule. You may request a copy from Tralayne Myers, Sound Transit, 401 S. Jackson Street, Seattle, WA 98104-2826, telephone: (206) 398-5014 or email: traylane.myers@soundtransit.org. It is also available at http://www.soundtransit.org/FWextension. After the comment period, Sound Transit will publish a summary of the public and agency comments it receives. After scoping concludes later this year, the Sound Transit Board is expected to consider the scoping comments received and then act on a motion addressing the purpose and need for the project, the scope of environmental review, and alternatives to be considered in the draft EIS.

FTA and Sound Transit will comply with all applicable Federal environmental laws, regulations, and executive orders during the environmental review process. These requirements include, but are not limited to, the regulations of the Council on Environmental Quality implementing NEPA, and FTA's own NEPA regulations (40 CFR parts 1500-1508, and 23 CFR part 771); the air quality conformity regulations of the U.S. Environmental Protection Agency (EPA) (40 CFR part 93); the Section 404(b)(1) guidelines of EPA (40 CFR part 230); the regulations implementing Section 106 of the National Historic Preservation Act (36 CFR part 800); the regulations implementing Section 7 of the Endangered Species Act (50 CFR part 402); Section 4(f) of the Dept. of Transportation Act (23 CFR part 774); Executive Order 12898 on Environmental Justice, 11988 on floodplain management, and 11990 on wetlands; and DOT Order 5610.2(a) on Environmental Justice.

Paperwork Reduction. The Paperwork Reduction Act seeks, in part, to minimize the cost to the taxpayer of the creation, collection, maintenance, use, dissemination, and disposition of information. Consistent with this goal and with principles of economy and efficiency in government, FTA limits as much as possible the distribution of complete sets of printed environmental documents. Accordingly, absent a specific request for a complete printed set of environmental documents (preferably in advance of printing), Sound Transit will distribute only the executive summary of the environmental document together with a compact disc of the complete environmental document. A complete printed set of the environmental document will be available for review at the grantee's offices and elsewhere; an electronic copy of the complete environmental document will also be available on Sound Transit's Web page.

Issued On: June 11, 2013.
Kenneth A. Feldman,
Deputy Regional Administrator.

[FR Doc. 2013-14296 Filed 6-14-13; 8:45 am]

BILLING CODE 4910-57-P